SECURITIES AND EXCHANGE COMMISSION

Proposed Collection; Comment Request

Upon Written Request, Copies Available From: Securities and Exchange Commission, Office of Investor Education and Advocacy, Washington, DC 20549-0213.

Extension:

Rule 203A-5, OMB Control No. 3235-0688, SEC File No. 270-631.

Notice is hereby given that pursuant to the Paperwork Reduction Act of 1995 (44 U.S.C. 3501 et seq.) the Securities and Exchange Commission (the “Commission”) is soliciting comments on the collections of information summarized below. The Commission plans to submit this existing collection of information to the Office of Management and Budget (“OMB”) for extension and approval.

The title for the collection of information is Rule 203A-5. Rule 203A-5 (17 CFR 275.203A-5) established a one-time requirement for investment advisers registered with the Commission as of January 1, 2012 to file a mandatory amendment to their Form ADV by March 30, 2012, and, if they no longer met Commission-registration eligibility requirements, to withdraw from registration by filing Form ADV-W by June 28, 2012. The deadlines for information collected pursuant the rule were March 30, 2012 (for Form ADV amendments) and June 28, 2012 (for withdrawals). The Commission is no longer collecting any information pursuant to the rule.

Accordingly, the staff estimates that, each year, no advisers will have to file a Form ADV amendment or Form ADV-W pursuant to rule 203A-5, and that the total burden for the information collection is zero hours at a cost of $0. Although Commission staff estimates that there is no burden associated with rule 203A-5, the staff is requesting an hour burden of one hour for administrative purposes. An agency may not conduct or sponsor, and a person is not required to respond to, a collection of information unless it displays a currently valid OMB control number.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Thomas Bayer, Chief Information Officer, Securities and Exchange Commission, C/O Remi Pavlik-Simon, 100 F Street, NE., Washington, DC 20549; or send an email to: PRA_Mailbox@sec.gov.

Dated: January 29, 2014.
Kevin M. O'Neill,
Deputy Secretary.

[FR Doc. 2014-02246 Filed 2-3-14; 8:45 am]

BILLING CODE 8011-01-P